DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The Messena Terminal Railroad Company (Docket Number FRA-2000-7949)

The Messena Terminal Railroad Company (MSTR), a home shop fleet of 71 AOCX aluminum covered hopper cars, has petitioned FRA for an extension of and modification to, the waiver granted on October 17, 2001 in FRA Docket No. 2000-7949. Specifically, MSTR has requested that the existing waiver be modified as follows:

1. Eliminate the requirement in condition no. 6 to lower the handbrake assembly and comply with 49 CFR 231.27(i)(iii) since § 231.27(i)(iii) only applies to cars that were built or placed into service after October 1, 1966, and that do not have roof hatches.

2. Remove condition no. 7 requiring MSTR to report immediately to FRA's Office of Safety any injury involving glazing that results from the use of the locomotive subject to this waiver since all locomotives comply with 49 CFR 223 Safety Glazing Standards.

3. Reword condition no. 4 to allow running boards to be relocated to the outboard area, provided the welding of attachment points is performed by an industry recognized, certified welder; where a sampling of welds are tested per industry standards, and the welds comply 100% with those standards. In support of this request, MSTR notes that upon completion of these modifications/repairs, the AOCX cars are expected to be in full compliance with 49 CFR 231.1(c) (Running boards).

4. Eliminate condition no. 5 which requires that each car in the pool be stencilled with the words “Keep Off Roof-No Running Board” as outlined in 49 CFR 231.27(i)(iii) since each railcar roof is currently equipped with a running board.

5. MSTR requests that FRA extend the waiver granted on October 17, 2001, for a minimum of one additional year in order to complete the modifications/repairs needed for running boards to be relocated to the outer area.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-7949) and must be submitted in triplicate to the Docket Clerk, DOT Central Docket Management Facility, Room Pl-401, Washington, DC, 20590-0001. Communications received within 45 days of the date of this notice will be considered by FRA before final action is taken. Comments received after that date will be considered as far as practicable. All written communications concerning these proceedings are available for examination during regular business hours (9 a.m-5 p.m.) at DOT Central Docket Management Facility, Room Pl-401 (Plaza Level), 400 Seventh Street SW., Washington, DC. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on October 2, 2006.
Grady C. Cothen, Jr.,
Deputy Associate Administrator for Safety Standards and Program Development.

[FR Doc. E6-16471 Filed 10-4-06; 8:45 am]

BILLING CODE 4910-06-P